INTERNATIONAL TRADE COMMISSION

[USITC SE-03-031]

Sunshine Act Meeting

Agency Holding the Meeting: United States International Trade Commission.

Time and Date: October 16, 2003 at 11 a.m.

Place: Room 101, 500 E Street SW., Washington, DC 20436, Telephone: (202) 205-2000.

Status: Open to the public.

Matters to be Considered

1. Agenda for future meetings: none.

2. Minutes.

3. Ratification List.

4. Inv. No. TA-421-4 (Certain Ductile Iron Waterworks Fittings from China)—briefing and vote on critical circumstances, and, if necessary, preliminary market disruption and provisional measures. (The Commission is currently scheduled to transmit its determination on critical circumstances, and, if necessary, preliminary market disruption and provisional measures determinations to the President on or before October 20, 2003.)

5. Outstanding action jackets: none.

In accordance with Commission policy, subject matter listed above, not disposed of at the scheduled meeting, may be carried over to the agenda of the following meeting.

Issued: October 8, 2003.
By order of the Commission.
Marilyn R. Abbott,
Secretary to the Commission.

[FR Doc. 03-25899 Filed 10-8-03; 1:09 pm]

BILLING CODE 7020-02-P